Proclamation 10087 of September 30, 2020

National Disability Employment Awareness Month, 2020

By the President of the United States of America

A Proclamation

During National Disability Employment Awareness Month, we recognize the immeasurable contributions that Americans with disabilities make to our workforce. Their achievements not only strengthen our economy and communities but also exemplify the power of every American to help shape the future of our country. This month, we recommit to advancing an American workforce where everyone can fully pursue their God-given potential.

Three decades ago, our Nation took a substantial step toward enabling Americans with disabilities to realize their full economic potential. With passage of the landmark Americans with Disabilities Act, these citizens obtained expanded access to employment opportunities, including government and community services. Since then, our Nation has made great strides to create a more inclusive workforce and secure a future of purpose for every American. My Administration has built on these successes by delivering unprecedented opportunities for more than 61 million Americans who have a disability. Due to these efforts, Americans with disabilities had the lowest annual unemployment rate on record last year. As we continue to restore our economy following the coronavirus pandemic, we will once again ensure historic employment opportunities for this incredible group of people.

Now, more than ever, technology is at the forefront of our evolving national workforce. Accordingly, my Administration is harnessing emerging technologies that enable Americans with disabilities to work in new ways and in new environments. The Department of Labor's Partnership on Employment and Accessible Technology developed the Emerging Technology Playbook, which provides step-by-step guidance to ensure accessibility is being built into new technology from the start. Additionally, the Department of Health and Human Services has convened the Interagency Accessibility Forum to foster best practices in accessibility across the Federal Government. My Administration is also working with State and local policymakers through the State Exchange on Employment and Disability initiative to build a more disability-inclusive employment landscape. While there is still progress to be made, I am committed to expanding rewarding, family-sustaining careers to Americans with disabilities in each and every State.

This month, we recognize the talent and skill of Americans with disabilities. Their resolve and determination strengthen our country and inspire us all. Together, we will continue to advance and promote an inclusive workforce in which everyone can provide for themselves and their families, achieve the American Dream, and enjoy the prosperity of our great Nation.

The Congress, by Joint Resolution approved August 11, 1945, as amended (36 U.S.C. 121), has designated October of each year as “National Disability Employment Awareness Month.” Most appropriately, this year's theme is “Increasing Access and Opportunity.”

NOW, THEREFORE, I, DONALD J. TRUMP, President of the United States of America, do hereby proclaim October 2020 as National Disability Employment Awareness Month. I call upon government, employers, labor organizations, and the great people of the United States to recognize the month with appropriate programs, ceremonies, and activities across our land.

IN WITNESS WHEREOF, I have hereunto set my hand this thirtieth day of September, in the year of our Lord two thousand twenty, and of the Independence of the United States of America the two hundred and forty-fifth.

[FR Doc. 2020-22185

Filed 10-5-20; 8:45 am]

Billing code 3295-F1-P